DEPARTMENT OF THE INTERIOR

Fish and Wildlife Service

Extension of Approved Information Collection, OMB Number 1018-0092, on Permit/License Applications

AGENCY: Fish and Wildlife Service, Interior.

ACTION: Notice; request for comments.

SUMMARY: The U.S. Fish and Wildlife Service is announcing its intention to request renewal of its existing approval to collect certain information from applicants who wish to obtain a permit or license to conduct activities under a number of wildlife conservation laws, treaties and regulations. We will submit the collection of information listed below to the Office of Management and Budget (OMB) for approval under the provisions of the Paperwork Reduction Act of 1995. If you wish to obtain copies of the proposed information collection requirement, related forms, and explanatory materials, contact the Collection Clearance Officer at the address listed below.

DATES: You must submit comments on or before January 29, 2000.

ADDRESSES: Send your comments and suggestions on specific requirements to the Collection Clearance Officer, U.S. Fish and Wildlife Service, MS 222-ARLSQ; 4401 N. Fairfax Drive, Arlington, VA 22203.

FOR FURTHER INFORMATION CONTACT: To request additional copies of the information collection request, explanatory information and related forms, contact Rebecca A. Mullin, Collection Clearance Officer at 703-358-2287, or electronically to: rmullin@fws.gov.

SUPPLEMENTARY INFORMATION: OMB regulations at 5 CFR 1320, which implement provisions of the Paperwork Reduction Act of 1995 (Pub. L. 104-13), require that interested members of the public and affected agencies have an opportunity to comment on information collection and record keeping activities [see 5 CFR 1320.8(d)]. We plan to submit a request to OMB to renew its approval of the collection of information for the Service's license/permit application form number 3-200-1 through 3-200-3 and 3-200-26. We are requesting a 3-year term of approval for this information collection activity.

We modified the format of the first page of the application form so that the information fields in our Service-wide Permits Issuance and Tracking computer System. We also modified the format and content of the supplemental page(s) of the application forms for clarity and to be less burdensome to complete.

We invite comments concerning this renewal on: (1) Whether the collection of information is necessary for the proper performance of the functions of the agency, including whether the information will have practical utility; (2) the accuracy of the agency's estimate of burden, (3) ways to enhance the quality, utility and clarity of the information to be collected; and (4) ways to minimize the burden of the collection of information on those who are to respond. The information collections in this program are part of a system of record covered by the Privacy Act [5 U.S.C. 552(a)].

The information on the application and the attachments will be used by the Service to review permit applications and allow the Service to make an assessment according to criteria established in various Federal wildlife conservation laws, treaties and regulations, on the issuance, suspension, revocation or denial of permits.

Federal agencies may not conduct or sponsor, and a person is not required to respond to, a collection of information unless it displays a currently valid OMB control number. The OMB control number for this collection of information is 1018-0092 which expires on 02/28/2001.

The information collection requirements in this submission implement the regulatory requirements of the Endangered Species Act (16 U.S.C. 1539), the Migratory Bird Treaty Act (15 U.S.C. 704), the Lacey Act (18 U.S.C. 42-44), the Bald and Golden Eagle Protection Act (16 U.S.C. 668), the Convention on International Trade in Endangered Species of Wild Fauna and Flora (CITES), (27 UST 108), the Marine Mammal Protection Act (16 U.S.C. 1361-1407), and Wild Bird Conservation Act (16 U.S.C. 4901-4916), and are contained in Service regulations in Chapter I, Subchapter B of Title 50 Code of Federal Regulations (CFR). Common permit application and record keeping requirements have been consolidated in 50 CFR 13, and unique requirements of the various statutes in the applicable part as described in the table.

Permit number | Activity | Total number of respondents | Estimated time (hrs) | Total annual burden hours | Regulation
3-200-1 | Federal Fish and Wildlife license/permit application form | 0* | .16 | 0 | 50 CFR Part 13
3-200-2 | Designated Port Exemption Permit to authorize the use of nondesignated ports for fish and wildlife shipments | 635 | 2 | 1270 | 50 CFR Part 14
3-200-3 | Import/Export License for commercial import/export fish and wildlife and/or fish and wildlife products | 4727 | 1 | 4727 | 50 CFR Part 14
3-200-26 | CITES Export Permit for the export of skins/products of six native species: (bobcat, lynx, river otter, Alaskan gray wolf, Alaskan brown bear and American alligator) | 2235 | 1 | 2235 | 50 CFR Part 14; 50 CFR Part 23
*Note: The general License/Permit Application form 3-200-1 is the first page of all 3-200 application forms. The 3-200-1 form is not generally used by itself, therefore, it has zero respondents.

Approval Number: 1018-0092 expires 02/28/2001.

Service Form Number: 3-200-1 through 3-200-3 and 3-200-26.

Frequency of Collection: 7597 applications annually.

Description of Respondents: Individuals, biomedical companies, circuses, zoological parks, botanical gardens, nurseries, museums, universities, scientists, antique dealers, Exotic pet industry, hunters, taxidermists, commercial importers/exporters of wildlife and plants, freight forwarders/brokers, local, State, tribal and Federal governments.

Total Annual Burden Hours: 7597.

Total Annual Responses: 7597.

*The total number of Annual Responses and Annual Burden Hours have been reduced because the 3-200-1 form is generally not used by itself, rather it is the first page of each of the other 3-200 License/Permit Application Forms. Therefore, there have been zero responses to the 3-200-1 form. The Annual Burden Hours to complete the first page of the 3-200 forms have already been accounted for in each of the other 3-200 License/Permit Application Forms.

Dated: November 22, 2000.
Rebecca A. Mullin,
U.S. Fish and Wildlife Service, Information Collections Officer.

[FR Doc. 00-30246 Filed 11-28-00; 8:45 am]

BILLING CODE 14310-55-M